SURFACE TRANSPORTATION BOARD

[Docket No. FD 36302]

Oakland Bulk & Oversize Terminal, LLC—Acquisition Exemption—Rail Line in Alameda County, Cal.

Oakland Bulk & Oversize Terminal, LLC (OBOT), has filed a verified notice of exemption under 49 CFR 1150.31 for authority after-the-fact to acquire by lease from the City of Oakland (City) approximately 15,000 lineal feet of rail line (located within approximately 11.5 acres of rail right of way) at the former Oakland Army Base (OAB) in Alameda County, Cal. (the Line).¹ The length of the Line includes parallel tracks running within the rail right-of-way. OBOT states that the Line does not have milepost designations.

¹ As explained more fully in previous decisions in this docket, OBOT filed its verified notice in response to the Board's decision in Oakland Global Rail Enterprise—Petition for Declaratory Order, FD 36168 (STB served Mar. 15, 2019), and thereafter, the effective date of the exemption was postponed pending further order of the Board. Concurrent with the publication of this notice, the Board is serving a decision denying a petition by the City to reject or revoke OBOT's verified notice and making the exemption effective on November 11, 2019. See Oakland Glob. Rail Enter.—Acquis. Exemption—Rail Line in Alameda Cty., Cal., FD 36301 et al. (STB served October 28, 2019).

According to OBOT, on February 16, 2016, the City leased to OBOT an existing railroad right-of-way located at the OAB, a portion of which includes the Line. Oakland Global Rail Enterprise, LLC (OGRE), an affiliate of OBOT, then subleased the railroad right-of-way from OBOT with the intent to rehabilitate the rail line within that right-of-way in order to provide rail service to the rail-to-ship bulk commodity marine terminal OBOT plans to build at the OAB. OBOT states that OGRE will be the operator of the Line.

OBOT certifies that the projected annual revenues as a result of this transaction will not exceed the amount that would qualify OBOT as a Class III railroad, and that the projected annual revenue for the Line will not exceed $5 million. OBOT also states that its agreement with the City does not contain any provision that would prohibit, restrict, or otherwise limit future interchange with any third-party carrier.

This exemption will become effective on November 11, 2019.

If the verified notice contains false or misleading information, the exemption is void ab initio. Petitions to revoke the exemption under 49 U.S.C. 10502(d) may be filed at any time. The filing of a petition to revoke will not automatically stay the effectiveness of the exemption. Petitions to stay must be filed no later than November 4, 2019 (at least seven days before the exemption becomes effective).

All pleadings, referring to Docket No. FD 36302, must be filed with the Surface Transportation Board either via e-filing or in writing addressed to 395 E Street SW, Washington, DC 20423-0001. In addition, a copy of each pleading must be served on OBOT's representative, Kathryn Kusske Floyd, Venable LLP, 600 Massachusetts Avenue NW, Washington, DC 20001.

According to OBOT, this action is categorically excluded from environmental review under 49 CFR 1105.6(c) and from historic reporting requirements under 49 CFR 1105.8(b).

Board decisions and notices are available at www.stb.gov.

Decided: October 23, 2019.
By the Board, Allison C. Davis, Director, Office of Proceedings.
Raina Contee,
Clearance Clerk.

[FR Doc. 2019-23513 Filed 10-25-19; 8:45 am]

BILLING CODE 4915-01-P